DEPARTMENT OF THE INTERIOR

Bureau of Ocean Energy Management

[Docket No. BOEM-2022-0069]

Notice of Availability of the Draft Environmental Impact Statement for the Coastal Virginia Offshore Wind (CVOW) Commercial Project

AGENCY: Bureau of Ocean Energy Management (BOEM), Interior.

ACTION: Notice of availability; request for comments.

SUMMARY: BOEM announces the availability of the draft environmental impact statement (DEIS) for the construction and operations plan (COP) submitted by Virginia Electric and Power Company, doing business as Dominion Energy Virginia (Dominion Energy), for its proposed Coastal Virginia Offshore Wind Commercial Project (CVOW Project or Project). The DEIS analyzes the potential environmental impacts of the Project as described in the COP (the proposed action) and alternatives to the proposed action, including no action. This notice of availability announces the start of the public review and comment period, as well as the dates and times for virtual public hearings on the DEIS. After the comment period and public hearings, BOEM will publish a final environmental impact statement (FEIS) addressing comments received on the DEIS. The FEIS will inform BOEM's decision whether to approve, approve with modifications, or disapprove the Dominion Energy COP for the CVOW Project.

DATES: Comments must be received no later than February 14, 2023. BOEM will conduct three virtual public meetings. BOEM's virtual public meetings will be held at the following times (eastern time).

• Wednesday, January 25, 2023; 5:00 p.m.

• Tuesday, January 31, 2023; 5:00 p.m.

• Thursday, February 2, 2023; 11:00 a.m.

ADDRESSES: The DEIS and detailed information about the Project, including the COP, can be found on BOEM's website at: https://www.boem.gov/renewable-energy/state-activities/CVOW-C.

Comments can be submitted in any of the following ways:

• Orally or in written form during any of the public meetings identified in this notice.

• In written form by U.S. mail or other delivery service, enclosed in an envelope labeled “CVOW COP DEIS” and addressed to Program Manager, Office of Renewable Energy Programs, Bureau of Ocean Energy Management, 45600 Woodland Road, Sterling, VA 20166.

• Through the regulations.gov web portal: Navigate to https://www.regulations.gov and search for Docket No. BOEM-2022-0069. Click on the “Comment” button below the document link. Enter your information and comment, then click “Submit Comment.”

For more information about submitting comments, please see “Information on Submitting Comments” under the SUPPLEMENTARY INFORMATION heading below.

Registration for the virtual public meetings may be completed at: https://www.boem.gov/renewable-energy/state-activities/CVOW-C or by calling (504) 736-5713. Meeting information will be sent to registrants via their email address provided during registration.

FOR FURTHER INFORMATION CONTACT: Jessica Stromberg, BOEM Office of Renewable Energy Programs, 45600 Woodland Road, Sterling, Virginia 20166, (703) 787-1730 or jessica.stromberg@boem.gov.

SUPPLEMENTARY INFORMATION:

Proposed Action: Dominion Energy seeks approval to construct, operate, and maintain the CVOW Project on the Outer Continental Shelf (OCS) offshore coastal Virginia. The Project includes associated subsea export cables and an onshore cable route. The Project would be developed within the range of design parameters outlined in the CVOW COP, subject to applicable mitigation measures. The Project as proposed in the COP would include up to 205 wind turbine generators; up to 3 offshore high-voltage substations; inter-array cables linking the individual turbines to the offshore substations; up to 9 buried high-voltage, offshore export cables; a single export cable landing point on the Virginia State Military Reservation, Virginia Beach; and an onshore export cable route potentially comprised of combination of overhead and underground transmission facilities with a terminal point of interconnection to the existing Dominion Energy electrical grid at the Fentress Substation in Chesapeake, Virginia. The CVOW Project is located on the OCS approximately 24 nautical miles (27 statute miles, 44 kilometers) east of Virginia Beach, Virginia, within an area defined by Renewable Energy Lease OCS-A 0483 (Lease Area). The offshore export cables would be buried below the seabed surface in the U.S. OCS and Commonwealth of Virginia-owned submerged lands.

Alternatives: BOEM considered seven Project alternatives and six alternate onshore cable routes when preparing the DEIS. BOEM carried forward four of the Project alternatives and two of the alternate cable routes for detailed analysis in the DEIS. The four Project alternatives include three action alternatives and the no action alternative. The alternatives not carried forward for detailed analysis did not meet the purpose and need for the proposed action or did not meet the alternative screening criteria, which are described in DEIS chapter 2. The screening criteria included consistency with law and regulations; technical and economic feasibility; environmental impacts; and geographic considerations.

Availability of the DEIS: The Project DEIS, CVOW COP, and associated information are available on BOEM's website at: https://www.boem.gov/renewable-energy/state-activities/CVOW-C.

BOEM has distributed digital copies of the DEIS to all parties listed in DEIS appendix H. If you require a flash drive or paper copy, BOEM will provide one upon request, as long as supplies are available. You may request a flash drive or paper copy of the DEIS by calling (504) 736-5713.

Cooperating and Consulting Agencies: The following Federal agencies participated as cooperating agencies under the National Environmental Policy Act in the preparation of the DEIS: Bureau of Safety and Environmental Enforcement, U.S. Environmental Protection Agency, National Marine Fisheries Service, U.S. Army Corps of Engineers, U.S. Coast Guard, U.S. Department of Defense, and U.S. Department of the Navy. The Advisory Council on Historic Preservation; National Park Service; U.S. Fish and Wildlife Service; and the Virginia Department of Energy are designated as participating agencies.

Information on Submitting Comments: BOEM does not consider anonymous comments. Please include your name and address as part of your comment. BOEM makes your comments, including your name and address, available for public review online and during regular business hours. You may request that BOEM withhold your name, address, or any other personally identifiable information (PII) included in your comment from the public record; however, BOEM cannot guarantee that it will be able to do so. If you wish your name, address, or other PII to be withheld, you must state your request prominently in a cover letter and explain the harm that you fear from its disclosure, such as unwarranted privacy invasion, embarrassment, or injury. Even if BOEM withholds your information in the context of this notice, your comment is subject to the Freedom of Information Act (FOIA) and any relevant court orders. If your comment is requested under FOIA or relevant court order, your information will only be withheld if a determination is made that one of the FOIA exemptions to disclosure applies or if the relevant court order is challenged. Such a determination will be made in accordance with the Department of the Interior's FOIA regulations and applicable law.

Please label privileged or confidential information as “Contains Confidential Information,” and consider submitting such information as a separate attachment. Information that is not labeled as privileged or confidential may be regarded by BOEM as suitable for public release.

All submissions from organizations or businesses and from individuals identifying themselves as representatives or officials of organizations or businesses will be made available for public inspection in their entirety.

Authority: 42 U.S.C. 4231 et seq. (NEPA, as amended) and 40 CFR 1506.6.

Karen Baker,
Chief, Office of Renewable Energy Programs, Bureau of Ocean Energy Management.

[FR Doc. 2022-27183 Filed 12-15-22; 8:45 am]

BILLING CODE 4340-98-P